DEPARTMENT OF COMMERCE

International Trade Administration

[A-570-912]

Certain New Pneumatic Off-the-Road Tires From the People's Republic of China: Final Results of Antidumping Duty Administrative Review; 2017-2018

AGENCY: Enforcement and Compliance, International Trade Administration, Department of Commerce.

SUMMARY: The Department of Commerce (Commerce) finds that Weihai Zhongwei Rubber Co., Ltd. (Zhongwei), an exporter of certain new pneumatic off-the-road tires (OTR tires) from the People's Republic of China (China), did not sell merchandise in the United States at prices below normal value during the period of review (POR) September 1, 2017 through August 31, 2018.

DATES: Applicable November 6, 2019.

FOR FURTHER INFORMATION CONTACT: Keith Haynes, AD/CVD Operations, Office III, Enforcement and Compliance, International Trade Administration, Department of Commerce, 1401 Constitution Avenue NW, Washington, DC 20230; telephone: (202) 482-5139.

SUPPLEMENTARY INFORMATION:

Background

Commerce published the Preliminary Results of this administrative review on August 23, 2019.¹ We invited interested parties to comment on the Preliminary Results; however, no interested party submitted comments.

¹ See Certain New Pneumatic Off-the-Road Tires from the People's Republic of China: Preliminary Results of Antidumping Duty Administrative Review; 2017-2018, 84 FR 44283 (August 23, 2019) (Preliminary Results), and accompanying Preliminary Decision Memorandum (PDM).

Scope of the Order

The merchandise covered by this order includes new pneumatic tires designed for off-the-road and off-highway use, subject to certain exceptions. The subject merchandise is currently classifiable under Harmonized Tariff Schedule of the United States (HTSUS) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. The HTSUS subheadings are provided for convenience and customs purposes only; the written product description of the scope of the order is dispositive. A full description of the scope of the order is contained in the Preliminary Decision Memorandum.²

² See Preliminary Results, PDM at 3-5.

Separate Rates

In our Preliminary Results, Commerce determined that information placed on the record by Zhongwei and Qingdao Honghua Tyre Factory (Honghua) demonstrates that these companies are entitled to separate rate status,³ which we preliminarily granted.⁴ We received no comments since the issuance of the Preliminary Results that provide a basis for reconsidering the determination with respect to the separate rate status of these entities. Therefore, for the final results, we continue to find that Zhongwei and Honghua are eligible for a separate rate.

³ See Zhongwei's March 11, 2019 Section A Questionnaire Response at 2-14; see also Honghua's Letter, “Separate Rate Application: Certain New Pneumatic Off-the-Road Tires from the People's Republic of China,” dated December 14, 2018.

⁴ See Preliminary Results, PDM at 9-13.

Changes Since the Preliminary Results

As noted above, we received no comments in response to the Preliminary Results. Accordingly, for the purposes of these final results, Commerce has made no changes to the Preliminary Results.

Final Results of the Review

Commerce determines that the following weighted-average dumping margins exist for the POR from September 1, 2017 through August 31, 2018:

Exporter | Weighted-average dumping margin (percent)
Weihai Zhongwei Rubber Co., Ltd | 0.00
Qingdao Honghua Tyre Factory | 0.00

Commerce's policy regarding conditional review of the China-wide entity applies to this administrative review.⁵ Under this policy, the China-wide entity will not be under review unless a party specifically requests, or Commerce self-initiates, a review of the China-wide entity. Because no party requested a review of the China-wide entity in this review, and we did not self-initiate a review, the entity is not under review and the entity's rate is not subject to change (i.e., 105.31 percent).⁶

⁵ See Antidumping Proceedings: Announcement of Change in Department Practice for Respondent Selection in Antidumping Duty Proceedings and Conditional Review of the Nonmarket Economy Entity in NME Antidumping Duty Proceedings, 78 FR 65963 (November 4, 2013).

⁶ The China-wide rate was determined in Certain New Pneumatic Off-the-Road Tires from the People's Republic of China: Final Results of Antidumping Duty Administrative Review; 2012-2013, 80 FR 20197 (April 15, 2015).

Where the rates for the individually examined companies are all zero, de minimis, or based entirely on facts available, section 735(c)(5)(B) of the Tariff Act of 1930, as amended (the Act) provides that Commerce may use “any reasonable method” to establish the all-others rate. As the margin calculated for the mandatory respondent, Zhongwei, is zero, we assigned Honghua, the sole separate-rate respondent not selected for individual examination in this review, a separate rate margin based on Zhongwei's weighted-average dumping margin, which we find to be reasonable and consistent with practice.⁷

⁷ See, e.g., Multilayered Wood Flooring from the People's Republic of China: Final Results of Antidumping Duty Administrative Review, Final Determination of No Shipments, and Partial Rescission; 2015-2016, 83 FR 35461, 35462 (July 26, 2018) (citing Albemarle Corp. v. United States, 821 F. 3d 1345 (Fed. Cir. 2016)).

Disclosure

Commerce normally discloses the calculations performed regarding these final results to parties in this proceeding within five days of the date of publication of this notice, in accordance with 19 CFR 351.224(b). However, because no changes were made to the preliminary calculations, we refer parties to the preliminary disclosure calculation memoranda.⁸

⁸ See Memorandum, “Administrative Review of the Antidumping Duty Order on Certain New Pneumatic Off-the-Road Tires from the People's Republic of China; 2017-2018: Preliminary Results Surrogate Value Memorandum,” dated August 16, 2019; see also Memorandum, “Analysis Memorandum for the Preliminary Results of the 2017-2018 Review of the Antidumping Duty Order on Certain New Pneumatic Off-the-Road Tires from the People's Republic of China: Weihei Zhongwei Rubber Co., Ltd.,” dated August 16, 2019.

Assessment Rates

Commerce will determine, and U.S. Customs and Border Protection (CBP) shall assess, antidumping duties on all appropriate entries of subject merchandise in accordance with section 751(a)(2)(C) of the Act and 19 CFR 351.212(b). Commerce intends to issue assessment instructions to CBP 15 days after the date of publication of the final results of this review in the Federal Register.

For any individually examined respondent whose (estimated) ad valorem weighted-average dumping margin is not zero or de minimis (i.e., less than 0.50 percent), Commerce will calculate importer-specific ad valorem assessment rates on the basis of the ratio of the total amount of dumping calculated for the importer's examined sales and the total entered value of those sales, in accordance with 19 CFR 351.212(b)(1).⁹ We will instruct CBP to assess antidumping duties on all appropriate entries covered by this review when the importer-specific ad valorem assessment rate calculated is not zero or de minimis. Where either the respondent's ad valorem weighted-average dumping margin is zero or de minimis, or an importer-specific ad valorem assessment rate is zero or de minimis, we will instruct CBP to liquidate the appropriate entries without regard to antidumping duties.¹⁰

⁹ In these final results, Commerce applied the assessment rate calculation method adopted in Antidumping Proceedings: Calculation of the Weighted-Average Dumping Margin and Assessment Rate in Certain Antidumping Proceedings; Final Modification, 77 FR 8101 (February 14, 2012).

¹⁰ See 19 CFR 351.212(b)(1).

Cash Deposit Requirements

Because the antidumping duty order on OTR tires from China was revoked,¹¹ Commerce will not issue cash deposit instructions at the conclusion of this administrative review.

¹¹ See Certain New Pneumatic Off-the-Road Tires from the People's Republic of China: Final Results of Sunset Reviews and Revocation of Antidumping Duty and Countervailing Duty Orders, 84 FR 20616 (May 10, 2019).

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of double antidumping duties.

Administrative Protective Order

This notice also serves as a final reminder to parties subject to administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

We are issuing and publishing these final results of administrative review in accordance with sections 751(a)(1) and 777(i) of the Act.

Dated: October 30, 2019.
Jeffrey I. Kessler,
Assistant Secretary for Enforcement and Compliance.

[FR Doc. 2019-24220 Filed 11-5-19; 8:45 am]

BILLING CODE 3510-DS-P